DEPARTMENT OF COMMERCE

National Oceanic and Atmospheric Administration

50 CFR Part 300

RIN 0648-BE71

International Fisheries; Pacific Tuna Fisheries; 2016 Commercial Pacific Bluefin Tuna Catch Limit in the Eastern Pacific Ocean

AGENCY: National Marine Fisheries Service (NMFS), National Oceanic and Atmospheric Administration (NOAA), Commerce.

ACTION: Announcement of 2016 Commercial Pacific bluefin tuna catch limit.

SUMMARY: NMFS is announcing that the Pacific bluefin tuna catch limit applicable to U.S. commercial fishing vessels in the eastern Pacific Ocean (EPO) in 2016 is 425 metric tons (mt). This notice is necessary to inform fishery participants of the catch limit established in a final rule published on July 8, 2015.

DATES: The catch limit is effective February 14, 2016, through 11:59 p.m. local time December 31, 2016.

FOR FURTHER INFORMATION CONTACT: Celia Barroso, NMFS West Coast Region, 562-432-1850.

SUPPLEMENTARY INFORMATION: The United States is a member of the Inter-American Tropical Tuna Commission (IATTC), which was established under the Convention for the Establishment of an Inter-American Tropical Tuna Commission (Convention) signed in 1949. The Convention is an international agreement that, among other matters, serves as a framework for international conservation and management of highly migratory species of fish in the IATTC Convention Area.

Fishing for tuna in the EPO is managed, in part, under the Tuna Conventions Act of 1950 (Act), as amended. Under the Act, NMFS must publish regulations to carry out recommendations of the IATTC. Regulations governing fishing by U.S. vessels in accordance with the Act appear at 50 CFR part 300, subpart C, and these regulations implement IATTC recommendations for the conservation and management of highly migratory fish resources in the EPO.

In 2014, the IATTC adopted Resolution C-14-06 (Measures for the Conservation and Management of Pacific Bluefin Tuna in the Eastern Pacific Ocean, 2015-2016), which establishes catch and trip limits of Pacific bluefin tuna applicable to U.S. commercial fishing vessels in 2015 and 2016. NMFS implemented this resolution by notice-and-comment rulemaking under the Act (80 FR 38986, July 8, 2015, and codified at 50 CFR 300.25). According to the regulations at 50 CFR 300.25(h)(2)(i), if 175 mt or less are caught in 2015, as determined by NMFS, then the 2016 catch limit is 425 mt.

NMFS, through landings data and other available information, has determined that U.S. commercial vessels in the EPO have caught less than 175 mt of PBF in 2015; preliminary estimates indicate total landings to be approximately 96 mt. In accordance with 50 CFR 300.25(h), this Federal Register notice announces that a 425 mt catch limit for Pacific bluefin tuna applies to U.S. commercial fishing vessels in the EPO through the end of the 2016 calendar year.

As a reminder, in accordance with 50 CFR 300.25(h), a trip limit of 25 mt per vessel applies. When NMFS anticipates that the total catch for the U.S. fleet has reached 375 mt, NMFS will impose a 2 mt trip limit until 425 mt have been caught and the fishery is closed.

Authority: 16 U.S.C. 951 et seq.

Dated: January 11, 2016.
Emily H. Menashes,
Acting Director, Office of Sustainable Fisheries, National Marine Fisheries Service.

[FR Doc. 2016-00738 Filed 1-14-16; 8:45 am]

BILLING CODE 3510-22-P